DEPARTMENT OF VETERANS AFFAIRS

[OMB Control No. 2900—New (10-21082)]

Agency Information Collection: Emergency Submission for OMB Review; Comment Request

AGENCY: Office of Veterans Health Administration, Department of Veterans Affairs.

ACTION: Notice.

SUMMARY: In compliance with the Paperwork Reduction Act (PRA) of 1995 (44 U.S.C. 3501-3521), this notice announces that the Department of Veterans Affairs (VA), has submitted to the Office of Management and Budget (OMB) the following emergency proposal for the collection of information under the provisions of the Paperwork Reduction Act (44 U.S.C. 3507(j)(1)). VA is requesting an emergency clearance on Survey of Satisfaction of Operation Iraqi Freedom and Operation Enduring Freedom Amputees.

DATES: Comments must be submitted on or before July 3, 2006.

FOR FURTHER INFORMATION OR A COPY OF THE SUBMISSION CONTACT: Denise McLamb, Records Management Service (005G2), Department of Veterans Affairs, 810 Vermont Avenue, NW., Washington, DC 20420, (202) 565-8374, FAX (202) 565-6950 or e-mail: denise.mclamb@mail.va.gov. Please refer to “OMB Control No. 2900—New (10-21082).

Send comments and recommendations concerning any aspect of the information collection to VA's OMB Desk Officer, OMB Human Resources and Housing Branch, New Executive Office Building, Room 10235, Washington, DC 20503 (202) 395-7316 or FAX (202) 395-6974. Please refer to “2900—New (10-21082).

SUPPLEMENTARY INFORMATION:

Title: Survey of Satisfaction of Operation Iraqi Freedom/Operation Enduring Freedom (OIF/OEF) Amputees.

OMB Control Number: 2900—New (10-21082).

Type of Review: New Collection.

Abstract: VA will use the data collected to determine whether the health care needs of amputee and severely injured veterans returning from Iraqi Freedom and Operation Enduring Freedom are being met and to identify areas where improvement is needed.

Affected Public: Individuals or households.

Estimated Total Annual Burden: 60 hours.

Estimated Average Burden per Respondent: 18 minutes.

Frequency of Response: One time.

Estimated Number of Respondents: 200.

Dated: May 22, 2006.
By direction of the Secretary.
Denise McLamb,
Program Analyst, Records Management Service.

[FR Doc. E6-8421 Filed 5-31-06; 8:45 am]

BILLING CODE 8320-01-P